DEPARTMENT OF COMMERCE

International Trade Administration

[A-570-601]

Tapered Roller Bearings and Parts Thereof, Finished and Unfinished, from the People's Republic of China: Rescission, in Part, of Antidumping Duty Administrative Review; 2019—2020

AGENCY: Enforcement and Compliance, International Trade Administration, United States Department of Commerce.

SUMMARY: On August 6, 2020, the Department of Commerce (Commerce) initiated an administrative review of the antidumping duty order on tapered roller bearings and parts thereof, finished and unfinished (TRBs) from the People's Republic of China (China) for 10 companies. Based on timely withdrawal of requests for review, we are now rescinding this administrative review with respect to four of these companies.

DATES: Applicable November 30, 2020.

FOR FURTHER INFORMATION CONTACT: Alex Wood or Whitley Herndon, AD/CVD Operations, Office II, Enforcement and Compliance, International Trade Administration, U.S. Department of Commerce, 1401 Constitution Avenue NW, Washington, DC 20230; telephone: (202) 482-1959 or (202) 482-6274, respectively.

Background

In June 2020, Commerce received multiple timely requests to conduct an administrative review of the antidumping duty order on TRBs from China. Based upon these requests, on August 6, 2020, in accordance with section 751(a) of the Tariff Act of 1930, as amended (the Act), Commerce published a notice of initiation of an administrative review covering the period June 1, 2019, through May 31, 2020, with respect to 10 companies.¹ In August and September, 2020, the following companies withdrew their requests for an administrative review: Changshan Peer Bearing Co., Ltd. (CPZ/SKF); GGB Bearing Technology (Suzhou) Co., Ltd. (GGB); Ningbo Xinglun Bearings Import & Export Co., Ltd. (Xinglun Bearings); and Shanghai General Bearing Co., Ltd (SGBC).²

¹ See Initiation of Antidumping and Countervailing Duty Administrative Reviews, 85 FR 47731 (August 6, 2020) (Initiation Notice). See also Initiation of Antidumping and Countervailing Duty Administrative Reviews, 85 FR 54983, 54990 (September 3, 2020), correcting the Initiation Notice.

² See CPZ/SKF's Letter, “Tapered Roller Bearing from the People's Republic of China: Withdrawal of Request for Administrative Review,” dated September 4, 2020; GGB's Letter, “Withdrawal of Request for the Administrative Review of the Antidumping Duty Order on Tapered Roller Bearings from the People's Republic of China, A-570-601 (POR: 6/1/19-5/31/20),” dated August 18, 2020; Ningbo Xinglun's Letter, “Tapered Roller Bearing from the People's Republic of China: Withdrawal of Request for Administrative Review,” dated September 9, 2020; and SGBC's Letter, “Tapered Roller Bearing from the People's Republic of China: Withdrawal of Request for Administrative Review,” dated September 4, 2020.

Partial Rescission

Pursuant to 19 CFR 351.213(d)(1), Commerce will rescind an administrative review, in whole or in part, if a party who requested the review withdraws the request within 90 days of the date of publication of notice of initiation of the requested review. CPZ/SKF, GGB, SGBC, and Xinglun Bearings timely withdrew their requests for an administrative review. No other party requested a review of these four companies. Accordingly, we are rescinding this review, in part, with respect to these companies, pursuant to 19 CFR 351.213(d)(1).

The instant review will continue with respect to the following companies: BRTEC Wheel Hub Bearing Co., Ltd.; C&U Group Shanghai Bearing Co., Ltd.; Hebei Xintai Bearing Forging Co., Ltd.; Shanghai Tainai Bearing Co., Ltd.; Xinchang Newsun Xintianlong Precision Bearing Manufacturing Co., Ltd.; and Zhejiang Jingli Bearing Technology Co., Ltd.

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i)(1) of the Act, and 19 CFR 351.213(d)(4).

Dated: November 24, 2020.
James Maeder,
Deputy Assistant Secretary for Antidumping and Countervailing Duty Operations.

[FR Doc. 2020-26334 Filed 11-27-20; 8:45 am]

BILLING CODE 3510-DS-P